DEPARTMENT OF LABOR

Bureau of Labor Statistics

Federal Economic Statistics Advisory Committee; Notice of Open Meeting and Agenda

The seventh meeting of the Federal Economic Statistics Advisory Committee will be held on December 14, 2004 in the Postal Square Building, 2 Massachusetts Avenue NE., Washington, DC. A meeting that had been scheduled for June 11, 2004, which would have been the Committee's seventh meeting, was canceled because that date was declared a national day of mourning for former President Ronald Reagan and Federal offices were closed.

The Federal Economic Statistics Advisory Committee is a technical committee composed of economists, statisticians, and behavioral scientists who are recognized for their attainments and objectivity in their respective fields. Committee members are called upon to analyze issues involved in producing Federal economic statistics and recommend practices that will lead to optimum efficiency, effectiveness, and cooperation among the Department of Labor, Bureau of Labor Statistics and the Department of Commerce, Bureau of Economic Analysis and Bureau of the Census.

The meeting will be held in Meeting Rooms 1 and 2 of the Postal Square Building Conference Center. The schedule and agenda for the meeting are as follows:

9 a.m. Opening session

9:45 a.m. Alternative measures of household income

1 p.m. Priorities for future meetings

1:30 p.m. Response rates and nonresponse in establishment surveys

3:45 p.m. Development of an Employment Cost Index (ECI) excluding workers earning incentive pay

4:45 p.m. Conclude (approximate time)

The meeting is open to the public. Any questions concerning the meeting should be directed to Margaret Johnson, Federal Economic Statistics Advisory Committee, on Area Code (202) 691-5600. Individuals with disabilities, who need special accommodations, should contact Ms. Johnson at least two days prior to the meeting date.

Signed at Washington, DC the 3rd day of November 2004.
Kathleen P. Utgoff,
Commissioner of Labor Statistics.

[FR Doc. 04-25597 Filed 11-17-04; 8:45 am]

BILLING CODE 4510-24-P